DEPARTMENT OF HEALTH AND HUMAN SERVICES

Substance Abuse and Mental Health Services Administration

Fiscal Year (FY) 2001 Funding Opportunities

AGENCY: Substance Abuse and Mental Health Services Administration, HHS.

ACTION: Notice of funding availability.

SUMMARY: The Substance Abuse and Mental Health Services Administration (SAMHSA) Center for Substance Abuse Prevention (CSAP) announces the availability of FY 2001 funds for cooperative agreements for the following activity. This notice is not a complete description of the activity; potential applicants must obtain a copy of the Guidance for Applicants (GFA), including Part I, Cooperative Agreements for the Dissemination of Effective Mentoring and Family Strengthening Programs for High Risk Youth, and Part II, General Policies and Procedures Applicable to all SAMHSA Applications for Discretionary Grants and Cooperative Agreements, before preparing and submitting an application.

Activity | Application deadline | Estimated funds FY 2001 | Estimated number of awards | Project period
Dissemination of Effective Mentoring and Family Strengthening Programs | May 21, 2001 | $5.5 million | *17 | 3 years for sites and 3½ years for Coordinating Center
* See Availability of Funds section for further explantion of the number and type of awards.

The actual amount available for the award may vary, depending on unanticipated program requirements and the number and quality of applications received. FY 2001 funds for the activity discussed in this announcement were appropriated by the Congress under Public Law 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345, Telephone: 1-800-729-6686.

The PHS 5161-1 application form and the full text of the activity are also available electronically via SAMHSA's World Wide Web Home Page: http://www.samhsa.gov

When requesting an application kit, the applicant must specify the particular activity for which detailed information is desired. All information necessary to apply, including where to submit applications and application deadline instructions, are included in the application kit.

Purpose

The Substance Abuse and Mental Health Services Administration (SAMHSA) Center for Substance Abuse Prevention (CSAP) announces the availability of Fiscal Year 2001 funds for cooperative agreements for the Dissemination of Effective Mentoring and Family Strengthening Programs for High Risk Youth. CSAP is encouraging initiatives to document the process and outcomes of widespread implementation of effective prevention approaches. This guidance for applicants (GFA) proposes to reach a greater number of youth and families in two separate program areas: (1) Science-based family strengthening program models and (2) youth only or youth and family mentoring approaches. Both program areas have well-experienced and active communities implementing these practices. This GFA will provide for expanding family strengthening and mentoring activities beyond their original target groups, settings, or sites. The cross site evaluation will give a better understanding of the process and outcomes of widespread implementation.

Eligibility

Applicants may apply as either a project site or as the Program Coordinating Center (PCC). Applicants for project sites may choose to apply for funds to implement either family strengthening or mentoring approaches but must demonstrate previous experience with their chosen approach.

Applications may be submitted by State or local governments, such as cities, counties, etc., Indian tribes and tribal organizations, and by domestic public and private non-profit organizations. For example, the following organizations are eligible to apply: national or local faith-based organizations, workplace organizations with employee assistance programs, family service agencies, tribal councils, colleges and universities, national organizations with local affiliates, and other community based organizations including collaborative(s) and coalitions with the capacity to implement programs at multiple sites.

Availability of Funds

Approximately $5.5 million will be available for a total of approximately 17 awards: 8 sites with a mentoring focus, 8 sites with a family strengthening focus, and 1 Program Coordinating Center. Applicants for study sites may apply for funding ranging from $250,000-$400,000 (direct and indirect costs) per year for mentoring or family strengthening cooperative agreements. Up to $750,000 will be made available for the Program Coordinating Center. Actual funding levels will depend on the scope of work and the availability of funds.

Period of Support

Awards may be requested for up to 3 years for study sites and 3 ½ years for the Program Coordinating Center. Annual continuation awards will depend on the availability of funds and progress achieved by grantees.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number

93.230.

Program Contact

For questions concerning program issues, contact: Rose Kittrell, Acting Team Leader, Center for Substance Abuse Prevention, Substance Abuse and Mental Health Services Administration, Rockwall II, Suite 1075, 5600 Fishers Lane, Rockville, MD 20857, (301) 443-0353, Technical Assistance Line: (301) 443-6612, M-F, 9:00 a.m.-6:00 p.m., EST.

For questions regarding grants management issues, contact: Edna Frazier, Division of Grants Management, OPS, Substance Abuse and Mental Health Services Administration, Rockwall II, 6th Floor, 5600 Fishers Lane, Rockville, Maryland 20857, (301) 443-6812, E-Mail: efrazier@samhsa.gov.

Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2001 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 12, 2001.
Richard Kopanda,
Executive Officer, SAMHSA.

[FR Doc. 01-6502 Filed 3-12-01; 4:39 pm]

BILLING CODE 4162-20-U